DEPARTMENT OF TRANSPORTATION

Federal Aviation Administration

14 CFR Part 71

[Docket No. FAA-2013-0860; Airspace Docket No. 12-ASO-36]

RIN 2120-AA66

Establishment and Modification of Area Navigation (RNAV) Routes; Atlanta, GA

AGENCY: Federal Aviation Administration (FAA), DOT.

ACTION: Final rule.

SUMMARY: This action establishes 14 RNAV Q-routes and modifies 4 Q-routes to enhance the efficiency of the National Airspace System (NAS) by improving the flow of air traffic in the vicinity of Atlanta, GA, and Charlotte, NC.

DATES: Effective date 0901 UTC, April 3, 2014. The Director of the Federal Register approves this incorporation by reference action under 1 CFR part 51, subject to the annual revision of FAA Order 7400.9 and publication of conforming amendments.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

On November 27, 2013, the FAA published in the Federal Register a notice of proposed rulemaking (NPRM) to establish 14 new RNAV routes and modify 4 RNAV routes in the vicinity of the Atlanta, GA and Charlotte, NC areas (78 FR 70895). Interested parties were invited to participate in this rulemaking effort by submitting written comments on the proposal. No comments were received.

Differences from the NPRM

The order of points listed in the descriptions of Q-110 and Q-118 is reversed in this rule from that shown in the NPRM. This is only an editorial change for format standardization and does not affect the track of the two routes.

The Rule

The FAA is amending Title 14, Code of Federal Regulations (14 CFR) part 71 to establish 14 new RNAV Q-routes and modify 4 Q-routes to improve the flow of air traffic in the Atlanta, GA, and Charlotte, NC areas. The changes are described below.

Q-22: Q-22 is extended approximately 582 nautical miles (NM) to the northeast of its current termination point, to the BEARI, VA, waypoint (WP) to segregate aircraft landing at various airports in the northeast U.S.

Q-39: Q-39 is a new route extending between the CLAWD, NC, WP and the TARCI, WV, fix, used by aircraft landing at Port Columbus, OH, Cleveland, OH and Detroit, MI airports.

Q-40: Q-40 is extended approximately 548 NM to the northeast terminating at the FANPO, VA, WP, providing a shorter route and reducing conflictions with departures from the Atlanta, GA, area.

Q-50: Q-50 is a new route extending between the Louisville, KY, VORTAC (IIU) and the CUBIM, KY, WP, to help segregate Charlotte, NC, departures from conflicting high altitude flows headed towards the Louisville, KY area.

Q-52: Q-52 is a new route extending between the CHOPZ, GA, WP and the COLZI, NC, fix, providing an RNAV alternative to jet route J-37 for southwest-bound overflights joining traffic departing from the CLT area and overflying ATL. The route parallels J-37 between COLZI and CHOPZ thereby segregating the southwest-bound flights from ATL departure flows that are in opposite direction proceeding northeast-bound.

Q-54: Q-54 is a new route extending between the Greenwood, SC, VORTAC (GRD) and the NUTZE, NC, WP, serving ATL departures destined to the Norfolk, VA, area.

Q-56: Q-56 is a new route that extends between the CATLN, AL, Fix and the KIWII, VA, WP, diverging northeasterly from Q-22, above, to serve aircraft landing at Ronald Reagan Washington National Airport and Joint Base Andrews.

Q-58: Q-58 is a new route that extends between the KELLN, SC, WP and the PEETT, NC, WP, used by ATL departures headed to Baltimore/Washington International Thurgood Marshall Airport.

Q-60: Q-60 is a new route extending between the Spartanburg, SC, VORTAC (SPA) and the JAXSN, VA, fix, to serve aircraft landing at Washington Dulles International, Richmond, VA, International and LaGuardia (LGA) airports.

Q-63: Q-63 is a new route extending between the DOOGE, VA, WP and the HEVAN, IN, WP, to facilitate CLT departures traveling northwest-bound and overflying the Cincinnati, OH, area.

Q-64: Q-64 is a new route extending between the CATLN, AL, fix and the Tar River, NC, VORTAC (TYI), providing routing for aircraft destined to airports in the New York City area.

Q-65: Q-65 is a new route extending between the JEFOI, GA, WP and Rosewood, OH, VORTAC (ROD), to serve northbound traffic from Florida and to the east of ATL.

Q-66: Q-66 is a new route extending between the Little Rock, AR, VORTAC (LIT) and the ALEAN, VA, WP, transferring RNAV aircraft off conventional jet routes and away from the Volunteer, TN (VXV) and Pulaski, VA (PSK) VORTACs, to facilitate climbs for northbound aircraft departing ATL and providing a more direct route to Little Rock.

Q-67: Q-67 is a new route extending between the SMITH, TN, WP and Henderson, WV, VORTAC (HNN), providing RNAV routing for ATL departures.

Q-69: Q-69 is a new route extending between the BLAAN, SC, WP and Elkins, WV, VORTAC (EKN), better providing for unrestricted climbs for CLT departures headed toward Pittsburgh International (PIT), Buffalo Niagara International (BUF) and Toronto Pearson International (TOR) airports. The route also can be an RNAV alternative to jet route J-53.

Q-71: Q-71 is a new route extending between the BOBBD, TN, WP and the GEFFS, WV, fix. In conjunction with Q-67, Q-71 facilitates the segregation of ATL departures prior to entering the adjacent Air Route Traffic Control Center's (ARTCC) airspace.

Q-110: Q-110 is extended an additional 404 NM to the northwest, terminating at the BLANS, IL, WP, serving traffic overflying Atlanta ARTCC airspace from Florida airports en route to the Minneapolis-St. Paul International/World-Chamberlain Airport (MSP).

Q-118: Q-118 extends between the KPASA, FL, WP and the LENIE, GA, WP. The LENIE WP is eliminated and instead Q-118 is realigned to the west of LENIE through the JOHNN, GA, Fix. From the JOHNN Fix, Q-118 is extended approximately 544 NM to the north to terminate at the Marion, IN, VOR/DME (MZZ). This supports a preferred arrival route into Chicago O'Hare International Airport (ORD).

High altitude RNAV routes are published in paragraph 2006 of FAA Order 7400.9X dated August 7, 2013, and effective September 15, 2013, which is incorporated by reference in 14 CFR 71.1. The RNAV routes listed in this document will be published subsequently in the Order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to enhance the safe and efficient flow of air traffic in the eastern United States.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013, and effective September 15, 2013, is amended as follows:

Paragraph 2006 United States Area Navigation Routes

* * * * *

Q-22 GUSTI, LA to BEARI, VA [Amended]

GUSTI, LA FIX (lat. 29°58′15″ N., long. 92°54′35″ W.)

OYSTY, LA FIX (lat. 30°28′15″ N., long. 90°11′49″ W.)

ACMES, AL WP (lat. 30°55′27″ N., long. 88°22′11″ W.)

CATLN, AL FIX (lat. 31°18′26″ N., long. 87°34′48″ W.)

TWOUP, GA WP (lat. 33°53′45″ N., long. 83°49′08″ W.)

Spartanburg (SPA), SC VORTAC (lat. 35°02′01″ N., long. 81°55′37″ W.)

NYBLK, NC WP (lat. 35°34′35″ N., long. 81°02′34″ W.)

MASHI, NC WP (lat. 35°58′18″ N., long. 80°23′05″ W.)

KIDDO, NC WP (lat. 36°10′35″ N., long. 80°02′24″ W.)

OMENS, VA WP (lat. 36°49′29″ N., long. 78°55′30″ W.)

BEARI, VA WP (lat. 37°12′02″ N., long. 78°15′24″ W.)

Q-39 CLAWD, NC to TARCI, WV [New]

CLAWD, NC WP (lat. 36°25′09″ N., long. 81°08′50″ W.)

TARCI, WV FIX (lat. 38°16′36″ N., long. 81°18′34″ W.)

Q-40 Alexandria, LA (AEX) to FANPO, VA [Amended]

Alexandria, LA (AEX) VORTAC (lat. 31°15′24″ N., long. 92°30′04″ W.)

DOOMS, MS WP (lat. 31°53′08″ N., long. 91°09′56″ W.)

WINAP, MS WP (lat. 32°38′00″ N., long. 89°21′56″ W.)

MISLE, AL WP (lat. 33°24′00″ N., long. 87°38′00″ W.)

BFOLO, AL WP (lat. 34°03′34″ N., long. 86°31′30″ W.)

NIOLA, GA WP (lat. 34°47′00″ N., long. 85°16′14″ W.)

JAARE, TN WP (lat. 35°44′20″ N., long. 83°32′30″ W.)

OJESS, TN WP (lat. 35°55′00″ N., long. 83°10′54″ W.)

ALEAN, VA WP (lat. 36°43′55″ N., long. 81°37′26″ W.)

FEEDS, VA WP (lat. 37°16′29″ N., long. 80°30′33″ W.)

MAULS, VA WP (lat. 37°52′49″ N., long. 79°19′49″ W.)

FANPO, VA WP (lat. 38°25′25″ N., long. 78°13′51″ W.)

Q-50 Louisville, KY (IIU) to CUBIM, KY [New]

Louisville, KY (IIU) VORTAC (lat. 38°06′12″ N., long. 85°34′39″ W.)

HELUB, KY WP (lat. 37°42′55″ N., long. 84°44′28″ W.)

ENGRA, KY WP (lat. 37°29′02″ N., long. 84°15′02″ W.)

IBATE, KY WP (lat. 36°59′12″ N., long. 83°13′40″ W.)

CUBIM, KY WP (lat. 36°52′37″ N., long. 83°00′21″ W.)

Q-52 CHOPZ, GA to COLZI, NC [New])

CHOPZ, GA WP (lat. 33°51′24″ N., long. 83°41′18″ W.)

IPTAY, GA WP (lat. 34°20′57″ N., long. 82°50′23″ W.)

AWYAT, SC WP (lat. 35°02′21″ N., long. 81°36′45″ W.)

COLZI, NC FIX (lat. 36°13′39″ N., long. 80°30′32″ W.)

Q-54 Greenwood, SC (GRD) to NUTZE, NC [New]

Greenwood, SC (GRD) VORTAC (lat. 34°15′06″ N., long. 82°09′15″ W.)

NYLLA, SC WP (lat. 34°34′39″ N., long. 81°17′00″ W.)

CHYPS, NC WP (lat. 34°53′18″ N., long. 80°25′57″ W.)

AHOEY, NC WP (lat. 35°00′36″ N., long. 80°05′56″ W.)

RAANE, NC WP (lat. 35°09′22″ N., long. 79°41′34″ W.)

NUTZE, NC WP (lat. 35°50′40″ N., long. 77°40′57″ W.)

Q-56 CATLN, AL to KIWII, VA [New]

CATLN, AL FIX (lat. 31°18′26″ N., long. 87°34′48″ W.)

KBLER, GA WP (lat. 33°43′21″ N., long. 83°43′14″ W.)

KELLN, SC WP (lat. 34°31′33″ N., long. 82°10′17″ W.)

KTOWN, NC WP (lat. 35°11′49″ N., long. 81°03′18″ W.)

BYSCO, NC WP (lat. 35°46′09″ N., long. 80°04′34″ W.)

JOOLI, NC WP (lat. 35°54′55″ N., long. 79°49′16″ W.)

NUUMN, NC WP (lat. 36°09′54″ N., long. 79°23′39″ W.)

ORACL, NC WP (lat. 36°28′02″ N., long. 78°52′15″ W.)

KIWII, VA WP (lat. 36°34′57″ N., long. 78°40′04″ W.)

Q-58 KELLN, SC to PEETT, NC [New]

KELLN, SC WP (lat. 34°31′33″ N., long. 82°10′17″ W.)

GLOVR, NC FIX (lat. 35°30′24″ N., long. 80°14′51″ W.)

LUMAY, NC WP (lat. 35°44′47″ N., long. 79°49′40″ W.)

STUKI, NC WP (lat. 36°09′08″ N., long. 79°06′14″ W.)

PEETT, NC WP (lat. 36°26′45″ N., long. 78°34′16″ W.)

Q-60 Spartanburg, SC (SPA) to JAXSN, VA [New]

Spartanburg, SC (SPA) VORTAC (lat. 35°02′01″ N., long. 81°55′37″ W.)

BYJAC, NC FIX (lat. 35°57′27″ N., long. 80°09′03″ W.)

EVING, NC WP (lat. 36°05′22″ N., long. 79°53′56″ W.)

LOOEY, VA WP (lat. 36°35′05″ N., long. 79°01′09″ W.)

JAXSN, VA FIX (lat. 36°42′38″ N., long. 78°47′23″ W.)

Q-63 DOOGE, VA to HEVAN, IN [New]

DOOGE, VA WP (lat. 36°48′39″ N., long. 82°35′14″ W.)

HAPKI, KY WP (lat. 37°04′56″ N., long. 82°51′03″ W.)

TONIO, KY FIX (lat. 37°15′15″ N., long. 83°01′48″ W.)

OCASE, KY WP (lat. 38°23′59″ N., long. 84°11′05″ W.)

HEVAN, IN WP (lat. 39°21′09″ N., long. 85°07′47″ W.)

Q-64 CATLN, AL to Tar River, NC (TYI) [New])

CATLN, AL FIX (lat. 31°18′26″ N., long. 87°34′48″ W.)

FIGEY, GA WP (lat. 33°52′27″ N., long. 82°52′23″ W.)

Greenwood, SC (GRD) VORTAC (lat. 34°15′06″ N., long. 82°09′15″ W.)

DARRL, SC FIX (lat. 34°47′49″ N., long. 81°03′22″ W.)

IDDAA, NC WP (lat. 35°11′05″ N., long. 79°59′31″ W.)

Tar River, NC (TYI) VORTAC (lat. 35°58′36″ N., long. 77°42′13″ W.)

Q-65 JEFOI, GA to Rosewood, OH (ROD) [New]

JEFOI, GA WP (lat. 31°35′37″ N., long. 82°31′18″ W.)

CESKI, GA WP (lat. 32°16′21″ N., long. 82°40′39″ W.)

DAREE, GA WP (lat. 34°37′36″ N., long. 83°51′35″ W.)

LORNN, TN WP (lat. 35°21′16″ N., long. 84°14′19″ W.)

SOGEE, TN WP (lat. 36°31′51″ N., long. 84°11′35″ W.)

ENGRA, KY WP (lat. 37°29′02″ N., long. 84°15′02″ W.)

OCASE, KY WP (lat. 38°23′59″ N., long. 84°11′05″ W.)

Rosewood, OH (ROD) VORTAC (lat. 40°17′16″ N., long. 84°02′35″ W.)

Q-66 Little Rock, AR (LIT) to ALEAN, VA [New]

Little Rock, AR (LIT) VORTAC (lat. 34°40′40″ N., long. 92°10′50″ W.)

CIVKI, AR WP (lat. 34°48′15″ N., long. 91°36′01″ W.)

RICKX, AR WP (lat. 35°06′30″ N., long. 90°14′16″ W.)

TROVE, TN WP (lat. 35°23′16″ N., long. 88°54′39″ W.)

BAZOO, TN WP (lat. 35°58′32″ N., long. 85°52′12″ W.)

METWO, TN WP (lat. 36°04′22″ N., long. 85°18′38″ W.)

MXEEN, TN WP (lat. 36°28′06″ N., long. 83°11′08″ W.)

ALEAN, VA WP (lat. 36°43′55″ N., long. 81°37′26″ W.)

Q-67 SMTTH, TN to Henderson, WV (HNN) [New]

SMTTH, TN WP (lat. 35°54′42″ N., long. 84°00′20″ W.)

CEMEX, KY WP (lat. 36°45′45″ N., long. 83°23′34″ W.)

IBATE, KY WP (lat. 36°59′12″ N., long. 83°13′40″ W.)

TONIO, KY FIX (lat. 37°15′15″ N., long. 83°01′48″ W.)

Henderson, WV (HNN) VORTAC (lat. 38°45′15″ N., long. 82°01′34″ W.)

Q-69 BLAAN, SC to Elkins, WV (EKN) [New]

BLAAN, SC WP (lat. 33°51′09″ N., long. 80°53′33″ W.)

RYCKI, NC WP (lat. 36°24′43″ N., long. 80°25′08″ W.)

LUNDD, VA WP (lat. 36°44′22″ N., long. 80°21′07″ W.)

ILLSA, VA WP (lat. 37°38′56″ N., long. 80°13′18″ W.)

EWESS, WV WP (lat. 38°21′50″ N., long. 80°06′52″ W.)

Elkins, WV (EKN) VORTAC (lat. 38°54′52″ N., long. 80°05′57″ W.)

Q-71 BOBBD, TN to GEFFS, WV [New]

BOBBD, TN WP (lat. 35°47′58″ N., long. 83°51′34″ W.)

ATUME, KY WP (lat. 36°57′14″ N., long. 83°03′24″ W.)

HAPKI, KY WP (lat. 37°04′56″ N., long. 82°51′03″ W.)

KONGO, KY FIX. (lat. 37°30′19″ N., long. 82°08′13″ W.)

WISTA, WV WP (lat. 38°17′01″ N., long. 81°27′47″ W.)

GEFFS, WV FIX (lat. 39°00′50″ N., long. 80°48′50″ W.)

Q-110 BLANS, IL TO THNDR, FL [Amended]

BLANS, IL WP (lat. 37°28′09″ N., long. 088°44′01″ W.)

BETIE, TN WP (lat. 36°07′30″ N., long. 087°54′01″ W.)

SKIDO, AL WP (lat. 34°31′49″ N., long. 086°53′11″ W.)

BFOLO, AL WP (lat. 34°03′34″ N., long. 086°31′30″ W.)

JYROD, AL WP (lat. 33°10′53″ N., long. 085°51′55″ W.)

FEONA, GA WP (lat. 31°36′22″ N., long. 084°43′08″ W.)

GULFR, FL WP (lat. 30°12′23″ N., long. 083°33′08″ W.)

BRUTS, FL WP (lat. 29°30′58″ N., long. 082°58′57″ W.)

KPASA, FL WP (lat. 28°10′34″ N., long. 081°54′27″ W.)

RVERO, FL WP (lat. 27°24′35″ N., long. 081°35′57″ W.)

JAYMC, FL WP (lat. 26°58′51″ N., long. 081°22′08″ W.)

THNDR, FL FIX (lat. 26°37′38″ N., long. 080°52′00″ W.)

Q-118 Marion, IN (MZZ) to KPASA, FL [Amended]

Marion, IN (MZZ) VOR/DME (lat. 40°29′36″ N., long. 085°40′45″ W.)

HEVAN, IN WP (lat. 39°21′09″ N., long. 085°07′47″ W.)

VOSTK, KY WP (lat. 38°28′16″ N., long. 084°43′04″ W.)

HELUB, KY WP (lat. 37°42′55″ N., long. 084°44′28″ W.)

JEDER, KY WP (lat. 37°19′31″ N., long. 084°45′14″ W.)

GLAZR, TN WP (lat. 36°25′21″ N., long. 084°46′49″ W.)

KAILL, GA WP (lat. 34°01′47″ N., long. 084°31′24″ W.)

JOHNN, GA FIX (lat. 31°31′23″ N., long. 083°57′27″ W.)

BRUTS, FL WP (lat. 29°30′58″ N., long. 082°58′57″ W.)

KPASA, FL WP (lat. 28°10′34″ N., long. 081°54′27″ W.)

Issued in Washington, DC, on January 16, 2014.
Gary A. Norek,
Manager, Airspace Policy and Regulations Group.

[FR Doc. 2014-01288 Filed 1-23-14; 8:45 am]

BILLING CODE 4910-13-P